FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than January 7, 2020.

A. Federal Reserve Bank of Minneapolis (Mark A. Rauzi, Vice President) 90 Hennepin Avenue, Minneapolis, Minnesota 55480-0291:

1. Jamie Lynn Nelson, Washburn, North Dakota; to acquire voting shares of McLean Bank Holding Company, Garrison, North Dakota, and thereby indirectly acquire voting shares of Garrison State Bank & Trust, Garrison, North Dakota; Bank of Turtle Lake, Turtle Lake, North Dakota; and Farmers Security Bank, Washburn, North Dakota.

B. Federal Reserve Bank of Cleveland (Mary S. Johnson, Vice President) 1455 East Sixth Street, Cleveland, Ohio 44101-2566. Comments can also be sent electronically to Comments.applications@clev.frb.org:

1. WVS Financial Corp. Employee Stock Ownership Plan, John A. Howard, Jr., trustee, both of Pittsburgh, PA; to acquire voting shares of WVS Financial Corp. and thereby indirectly acquire voting shares of West View Savings Bank, both of Pittsburgh, PA.

Board of Governors of the Federal Reserve System, December 19, 2019.
Michele Taylor Fennell,
Assistant Secretary of the Board.

[FR Doc. 2019-27851 Filed 12-26-19; 8:45 am]

BILLING CODE P